DEPARTMENT OF ENERGY

Federal Energy Regulatory Commission

Application for Amendment of License To Remove Certain Facilities and Acreage From the Project Boundary

August 10, 2004.

Take notice that the following application has been filed with the Commission and is available for public inspection:

a. Type of Filing: Application for amendment of license to remove certain facilities and acreage from the project boundary.

b. Project No.: P-137-061.

c. Date Filed: October 17, 2003.

d. Applicant: Pacific Gas and Electric Company.

e. Name of Project: Mokelumne River Project.

f. Location: The project is located on the Mokelumne River and its tributaries in Alpine, Amador, and Calaveras Counties, California.

g. Filed Pursuant to: Federal Power Act, 16 U.S.C. 791a-825r.

h. Applicant Contact: Mr. Richard J. Doble, Senior License Coordinator, Safety, Environmental, and License Management Team, Power Generation, Mail Code N11c, Pacific Gas and Electric Company, P.O.Box 770000, San Francisco, CA 94177-0001.

i. FERC Contact: Etta Foster, (202) 502-8769, or e-mail address: etta.foster@ferc.gov.

j. Deadline for filing comments, motions to intervene or protests: September 10, 2004.

All documents (original and eight copies) should be filed with Ms. Magalie R. Salas, Secretary, Federal Energy Regulatory Commission, 888 First Street, NE., Washington, DC 20426. Comments, protests, and interventions may be filed electronically via the Internet in lieu of paper. See 18 CFR 385.2001 (a)(1)(iii) and the instructions on the Commission's Web site under the “e-filing” link.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

k. Description of Request: The applicant requests that its license for this project be amended by removal of the East Panther, West Panther, and Beaver Creek Diversion Dams from the license and modification of the project boundary to reflect the removal.

l. Location of Filing: A copy of the filing is available for inspection and reproduction at the Commission's Public Reference Room, located at 888 First Street, NE., Room 2A, Washington, DC 20426. This filing may also be viewed on the Web site at http://www.ferc.gov using the “elibrary” link. Enter the docket number excluding the last three digits in the docket number field to access the document. You may also register online at http://www.ferc.gov/docs-filing/esubscription.asp to be notified via e-mail of new filings and issuances related to this or other pending projects. For assistance, call 1-866-208-3676 or e-mail FERCOnlineSupport@ferc.gov, for TTY, call (202) 502-8659. A copy is also available for inspection and reproduction at the address in item (h) above.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's rules may become a party to the proceeding. Any comments, protests, or motions to intervene must be received on or before the specified comment date for the particular application.

o. Filing and Service of Responsive Documents—Any filings must bear in all capital letters the title “COMMENTS”, “PROTEST”, or “MOTION TO INTERVENE”, as applicable, and the Project Number of the particular application to which the filing refers. All documents (original and eight copies) should be filed with: Magalie R. Salas, Secretary, Federal Energy Regulatory Commission, 888 First Street, NE., Washington, DC 20426. A copy of any motion to intervene must also be served upon each representative of the Applicant specified in the particular application.

p. Agency Comments—Federal, State, and local agencies are invited to file comments on the described application. A copy of the application may be obtained by agencies directly from the Applicant. If an agency does not file comments within the time specified for filing comments, it will be presumed to have no comments. One copy of an agency's comments must also be sent to the Applicant's representatives.

Magalie R. Salas,
Secretary.

[FR Doc. E4-1828 Filed 8-16-04; 8:45 am]

BILLING CODE 6717-01-P